DEPARTMENT OF TRANSPORTATION

Surface Transportation Board

[STB Finance Docket No. 35310]

U S Rail Corporation of New Jersey—Lease Exemption—County of Salem, NJ

U S Rail Corporation of New Jersey (U S RCNJ), a noncarrier, has filed a verified notice of exemption under 49 CFR 1150.31 to lease from the County of Salem, NJ (County), approximately 17.24 miles of the County's rail line (the Line), extending between milepost 10.86 in Swedesboro, NJ, and milepost 28.10 in Salem, NJ.¹

¹ U S RCNJ is contracting with its affiliate U S Rail Corporation (USRP) to perform the operations on the line, with U S RCNJ retaining a residual common carrier obligation.

This transaction is related to the concurrently filed verified notices of exemption in: (1) STB Finance Docket No. 35317, U S Rail Corporation—Operation Exemption—U S Rail Corporation of New Jersey, whereby USRP has filed a verified notice of exemption to operate the line; and (2) STB Finance Docket No. 35318, Gabriel D. Hall—Continuance in Control—U S Rail Corporation of New Jersey, whereby Gabriel D. Hall has filed a verified notice of exemption to continue in control of U S RCNJ upon U S RCNJ becoming a Class III rail carrier.

U S RCNJ certifies that its projected annual revenues as a result of the transaction will not result in U S RCNJ becoming a Class II or Class I rail carrier and further certifies that its projected annual revenues will not exceed $5 million.

The transaction is expected to be consummated on or after December 12, 2009, the effective date of the exemption (30 days after the exemption was filed).

Pursuant to the Consolidated Appropriations Act, 2008, Public Law No. 110-161, § 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than December 4, 2009 (at least 7 days before the exemption becomes effective).

An original and 10 copies of all pleadings, referring to STB Finance Docket No. 35310, must be filed with the Surface Transportation Board, 395 E Street, SW., Washington, DC 20423-0001. In addition, a copy of each pleading must be served on Eric M. Hocky, Thorp Reed & Armstrong, LLP, One Commerce Square, 2005 Market Street, Suite 1000, Philadelphia, PA 19103.

Board decisions and notices are available on our Web site at: http://www.stb.dot.gov.

Decided November 23, 2009.
By the Board.
Rachel D. Campbell,
Director, Office of Proceedings.
Kulunie L. Cannon,
Clearance Clerk.

[FR Doc. E9-28430 Filed 11-25-09; 8:45 am]

BILLING CODE 4915-01-P